DEPARTMENT OF STATE

[Public Notice 7599]

Notice of Receipt of Cultural Property Request From the Government of the Republic of Bulgaria

Bulgaria, concerned that its cultural heritage is in jeopardy from pillage, made a request to the Government of the United States under Article 9 of the 1970 UNESCO Convention. United States Department of State received this request in September 2011. Bulgaria's request seeks U.S. import restrictions on archaeological and ethnological material from Bulgaria dating to the Neolithic Period (7500 B.C.) through the nineteenth century A.D.

The specific contents of this request are treated as confidential government-to-government information, consistent with applicable U.S. law.

Information about U.S. implementation of the 1970 UNESCO Convention can be found at http://exchanges.state.gov/heritage. A public summary of Bulgaria's request will be posted on that Web site.

Dated: September 30, 2011.
Ann Stock,
Assistant Secretary of State for Educational and Cultural Affairs, Department of State.

[FR Doc. 2011-26643 Filed 10-13-11; 8:45 am]

BILLING CODE 4710-05-P